DEPARTMENT OF ENERGY

Federal Energy Regulatory Commission

Notice of Intent To File an Application for a New License

December 18, 2001.

a. Type of filing: Notice of Intent to File An Application for a New License.

b. Project No.: 2165.

c. Date filed: November 19, 2001.

d. Submitted by: Alabama Power Company—current licensee.

e. Name of project: Warrior River Hydroelectric Project.

f. Location: On the Black Warrior River and on the Sipsey Fork of the Black Warrior River in Cullman, Walker, Winston, and Tuscaloosa Counties, Alabama. The project occupies federal lands administered by the U.S. Army Corps of Engineers, and located within the William B. Bankhead National Forest.

g. Filed pursuant to: Section 15 of the Federal Power Act.

h. Licensee contact: Jim Crew, JFCREW@southernco,com, (205) 257-4265, or Barry Lovett, BKLOVETT@southernco.com, (205) 257-1268.

i. FERC contact: Ron McKitrick, ronald.mckitrick@ferc.fed.us, (770) 452-3778.

j. Effective date of current license: September 1, 1957.

k. Expiration date of current license: August 31, 2007.

l. Description of the project: The project consists of the following two developments:

The Smith Development consists of the following existing facilities: (1) The 300-foot-high, 2,200-foot-long Smith Dam; (2) a 956-foot-long concrete spillway section; (3) the 21,200-acre Smith Lake with a normal water surface elevation of 510 feet msl; (4) two 630-foot-long, 22-foot-diameter tunnels leading to; (5) a powerhouse containing two generating units with a total installed capacity of 157.5 MW, (6) a 700-foot-long tailrace; (7) two 115-kV transmission lines and one 161-kV transmission line; and (8) other appurtenances.

The Bankhead Development consists of the following existing facilities: (1) The 1,400-foot-long John Hollis Bankhead Dam consisting of: (a) a 1,230-foot-long concrete spillway section equipped with 22 vertical lift gates; (b) a 78-foot-wide intake section; (2) the 9,200-acre Bankhead Lake with a normal water surface elevation of 255feet msl; (3) a powerhouse containing one generating unit with an installed capacity of 52.5 MW; (4) a 115-kV transmission line; and (5) other appurtenances.

m. Each application for a new license and any competing license applications must be filed with the Commission at least 24 months prior to the expiration of the existing license. All applications for license for this project must be filed by August 31, 2005.

Linwood A. Watson, Jr.,
Acting Secretary.

[FR Doc. 01-31593 Filed 12-21-01; 8:45 am]

BILLING CODE 6717-01-P